DEPARTMENT OF TRANSPORTATION

Federal Aviation Administration

Public Notice for Waiver Of Aeronautical Land-Use Assurance; Springfield-Beckley Municipal Airport, Springfield, OH

AGENCY: Federal Aviation Administration, DOT.

ACTION: Notice of intent of waiver with respect to land.

SUMMARY: The Federal Aviation Administration (FAA) is considering a proposal to change a portion of the airport from aeronautical use to non-aeronautical use and to authorize the sale of the airport property. The proposal consists of 3 parcels of land totaling approximately 12.66 acres. The land is currently used for agricultural crop production and airport perimeter fence. No facilities are located within the property boundaries. Federal funds were not used to purchase the property and is not needed for aeronautical use, as shown on the Airport Layout Plan. There are no impacts to the airport by allowing the sponsor to dispose of the property. Subject land will provide for the realignment and right-of-way needs of State Route 794. Approval does not constitute a commitment by the FAA to financially assist in the disposal of the subject airport property nor a determination of eligibility for grant-in-aid funding from the FAA. The disposition of proceeds from the sale of the airport property will be in accordance with FAA's Policy and Procedures Concerning the Use of Airport Revenue, published in the Federal Register on February 16, 1999.

In accordance with section 47107(h) of title 49, United States Code, this notice is required to be published in the Federal Register 30 days before modifying the land-use assurance that requires the property to be used for an aeronautical purpose.

DATES: Comments must be received on or before September 17, 2012.

ADDRESSES: Documents reflecting this FAA action may be reviewed at the Detroit Airports District Office.

FOR FURTHER INFORMATION CONTACT: Mary Jagiello, Program Manager, Detroit Airports District Office, Federal Aviation Administration, 11677 South Wayne Road, Romulus, Michigan 48174. Telephone Number (734) 229-2956 FAX Number (734) 229-2950. Documents reflecting this FAA action may be reviewed at this same location or at Springfield-Beckley Municipal Airport, Springfield, Ohio.

SUPPLEMENTARY INFORMATION: Following is a legal description of the property located in Springfield, Clark County, Ohio, and described as follows:

Parcel 1-WDV-1 Description

Situated in the State of Ohio, County of Clark, Township of Green, being in the Northwest Quarter of Section 5 and in the Northeast and Southeast Quarters of Section 11, Township 4, Range 8, Miami River Survey, and being a part of:

1. That 37.15 acre tract and that 76.59 acre tract, both described in a deed to The City of Springfield, Ohio, of record in Official Record Volume 1761, page 2573,

2. that 2.17 acre tract and that 120 acre tract, both described in a deed to The City of Springfield, Ohio, of record in Deed Book 354, page 313,

3. and that 2.00 acre tract described in a deed to The City of Springfield, Ohio, of record in Official Record Volume 1872, page 1437,

all records referenced herein are on file at the Office of the Recorder for Clark County, Ohio, being a parcel of land located on the left and right sides of the proposed centerline of construction for Peacock Road, and on the left and right sides of the proposed centerline of construction for State Route 794, as shown on the centerline plat for CLA-794-0.60, of record in Plat Book 18, page 286, and said parcel being further bounded and described as follows:

Commencing for reference at an iron pin found at the northwest corner of said Section 5, being the northeast corner of said Section 11, being the southwest corner of Section 6, Township 4, Range 8, being the southeast corner of Section 12, Township 4, Range 8, said iron pin found being the northwest corner of said 37.15 acre tract, being the northeast corner of that 1.47 acre tract described in a deed to Larry E. Shaffer, of record in Official Record Volume 1778, page 73, being the southwest corner of that 18.79 acre tract described in two deeds to Nancy K. Saks & Daniel Saks (⅚ interest), of record in Official Record Volume 1862, page 116, and of record in Official Record Volume 1900, page 107, and described in a deed to Barbara Jean Meadows (⅙ interest), of record in Official Record Volume 998, page 40, said iron pin being at an angle point in the existing centerline of survey for Peacock Road, and said iron pin found being 234 feet left of Peacock Road proposed centerline of construction Station 204+37.70;

Thence South 85 degrees 11 minutes 07 seconds East, along the north line of said Section 5, along the south line of said Section 6, along the north line of said 37.15 acre tract and along the south line of said 18.79 acre tract, a distance of 606.98 feet to an iron pin set on the proposed northwest right-of-way line for said State Route 794, said iron pin set being 60.00 feet left of State Route 794 proposed centerline of construction Station 145+68.96, and said iron pin set being the TRUE POINT OF BEGINNING for the herein described right-of-way parcel;

Thence South 85 degrees 11 minutes 07 seconds East, continuing along the north line of said Section 5, the south line of said Section 6, the north line of said 37.15 acre tract and the south line of said 18.79 acre tract (passing the proposed centerline of construction for said State Route 794 at a distance of 154.03 feet, and the southeast corner of said 18.79 acre tract at a distance of 364.37 feet), a total distance of 408.59 feet to an iron pin set on the proposed southeast right-of-way line for said State Route 794, said iron pin set being on the south line of that 99.97 acre tract described in a deed to John C. Hayes, Trustee, of record in Official Record Volume 1504, page 2207, and said iron pin set being 60.00 feet right of State Route 794 proposed centerline of construction Station 149+61.75;

Thence southwest across said 37.15 acre tract, along the arc of a non-tangent curve to the left, parallel to and 60.00 feet southeasterly from the proposed centerline of construction for said State Route 794, said curve having a radius of 1,146.23 feet, a central angle of 68 degrees 58 minutes 11 seconds, and an arc length of 1,379.77 feet to an iron pin set at a point of tangency, said iron pin set being 60.00 feet right of State Route 794 proposed centerline of construction Station 135+09.75, said curve being subtended by a long chord having a bearing of South 52 degrees 48 minutes 43 seconds West and a length of 1,297.96 feet,

Thence South 18 degrees 19 minutes 38 seconds West, continuing across said 37.15 acre tract, a distance of 69.05 feet to an iron pin set at a point, said iron pin set being 58.16 feet right of State Route 794 proposed centerline of construction Station 134+37.79;

Thence South 13 degrees 13 minutes 15 seconds West, continuing across said 37.15 acre tract, along a line parallel to and 60.00 feet southeasterly from the proposed centerline of construction for said State Route 794 (passing the existing east right-of-way way line for Peacock Road at a distance of 147.63 feet, passing the south line of said 37.15 acre tract and into said 2.00 acre tract at a distance of 203.26 feet, passing the existing centerline of survey for said Peacock Road and the west line of said 2.00 acre tract and into said 76.59 acre tract at a distance of 290.40 feet, and passing the existing west right-of-way line for said Peacock Road at a distance of 433.17 feet), a total distance of 1,008.74 feet to an iron pin set at a point, said point being 62.26 feet right of State Route 794 proposed centerline of construction Station 124+29.68;

Thence South 19 degrees 22 minutes 15 seconds West, across said 76.59 acre tract, a distance of 71.63 feet to an iron pin set at a point of curvature, said point being 60.00 feet right of State Route 794 proposed centerline of construction Station 123+61.70;

Thence continuing southwest across said 76.59 acre tract, along the arc of a curve to the right, parallel to and 60.00 feet southeasterly from the proposed centerline of State Route 794, said curve having a radius of 1,014.93 feet, a central angle of 69 degrees 26 minutes 28 seconds, (passing the existing north right of way line for said State Route 794 and the south line of said 76.59 acre tract and into said 2.17 acre tract at an arc length of 832.41 feet, passing the existing centerline of survey for said State Route 794 at an arc length of 936.68 feet, passing the south line of said 2.17 acre tract and into said 120 acre tract at an arc length of 951.27 feet, and passing the existing south right-of-way line for said State Route 794 at an arc length of 1,071.49 feet) a total arc length of 1,230.07 feet to an iron pin set at a point of tangency, said iron pin set being 60.00 feet right of State Route 794 proposed centerline of construction Station 112+04.35, said curve being subtended by a long chord having a bearing of South 54 degrees 05 minutes 29 seconds West and a length of 1,156.15 feet;

Thence South 88 degrees 48 minutes 43 seconds West, continuing across said 120 acre tract, a distance of 71.63 feet to an iron pin set at a point, said iron pin set being 62.26 feet right of State Route 794 proposed centerline of construction Station 111+36.37;

Thence North 85 degrees 02 minutes 17 seconds West, continuing across said 120 acre tract, along a line parallel to and 60.00 feet southerly from the centerline of survey and construction for said State Route 794, a distance of 389.32 feet to an iron pin set at a point, said iron pin set being 60.00 feet right of State Route 794 proposed centerline of construction Station 107+50.00;

Thence North 04 degrees 57 minutes 43 seconds East, continuing across said 120 acre tract, along a line perpendicular to the centerline of survey and construction for said State Route 794 (passing the existing south right-of-way line for said State Route 794 at a distance of 30.00 feet and passing the centerline of survey and construction for said State Route 794 at a distance of 60.00 feet), a total distance of 75,00 feet to A MAG nail set on the half section line for said Section 11, being on the north line of said 120 acre tract, being on the south line of that 1.53 acre tract described in a deed to Linda L. Black, Trustee or her Successor(s) as Trustees of “The Phlips Keystone Inheritance Trust”, dated March 12, 2010, of record in Deed Book 1901, page 2209, said MAG nail set being 15.00 feet left. of State Route 794 proposed centerline of construction Station 107+50.00;

Thence South 85 degrees 02 minutes 17 seconds East, along the half-section line for said Section 11, along the north line of said 120 acre tract, and along the south line of said 1.53 acre tract, a distance of 167.78 feet to a MAG nail set at a southwest corner of said 76.59 acre tract, being the southeast corner of said 1.53 acre tract, said MAG nail set being 15.00 feet left of State Route 794 centerline of construction Station 109+17.78;

Thence North 08 degrees 42 minutes 47 seconds West, along a southwest line of said 76.59 acre tract, along the northeast line of said 1.53 acre tract, a distance of 46.31 feet to an iron pin set on the proposed north right-of-way line for said State Route 794, said iron pin set being 60.00 feet left of State Route 794 proposed centerline of construction Station 109+06.83;

Thence across said 76.59 acre tract along the following seven (7) described courses:

1. South 85 degrees 02 minutes 17 seconds East, along a line parallel to and 60.00 feet northerly from the centerline of survey and construction for said State Route 794, a distance of 226.04 feet to an iron pin set, said iron pin set being 57.91 feet left of State Route 794 proposed centerline of construction Station 111+35.65;

2. North 88 degrees 48 minutes 43 seconds East, a distance of 65.19 feet to an iron pin set at a point of curvature, said iron pin set being 60.00 feet left of State Route 794 proposed centerline of construction Station 112+04.35;

3. Northeast along the arc of a curve to the left, parallel to and 60,00 feet northwesterly from the proposed centerline of construction for said State Route 794, said curve having a radius of 894.93 feet, a central angle of 69 degrees 26 minutes 28 seconds, and an arc length of 1,084.63 feet to an iron pin set at a point of tangency, said iron pin set being 60.00 feet left of State Route 794 proposed centerline of construction Station 123+61.70, said curve being subtended by a long chord having a bearing of North 54 degrees 05 minutes 29 seconds East and a length of 1,019.46 feet;

4. North 19 degrees 22 minutes 15 seconds East, a distance of 65.19 feet to an iron pin set at a point, said iron pin set being 57.9.1 feet left of State Route 794 proposed centerline of construction Station 124+30.40;

5. North 13 degrees 13 minutes 15 seconds East, along a line parallel to and 60.00 feet northwesterly from the proposed centerline of construction for said State Route 794, a distance of 1,007.65 feet to an iron pin set at a point of tangency, said iron pin set being 61.95 feet left of State Route 794 proposed centerline of construction Station 134+38.38;

6. North 18 degrees 19 minutes 38 seconds East, a distance of 74.40 feet to an iron pin set at a point of curvature, said iron pin set being 60.00 feet left of State Route 794 proposed centerline of construction Station 135+09.75;

7. Northeast along the arc of a curve to the right, parallel to and 60.00 feet northwesterly from the proposed centerline of construction for said State Route 794, said curve having a radius of 1,266.23 feet, a central angle of 50 degrees 18 minutes 44 seconds, (passing the existing west right-of-way line for said Peacock Road at an arc length of 143.33 feet, passing the existing centerline of survey for said Peacock Road and the east line of said 76.59 acre tract and into said 37.15 acre tract at an arc length of 199.37 feet, passing the existing east right-of-way line for said Peacock Road at an arc length of 249.89 feet, and passing the proposed centerline of construction for said Peacock Road at an arc length of 542.57 feet) a total arc length of 1,111.89 feet to the TRUE POINT OF BEGINNING for the herein described right-of-way parcel, said curve being subtended by a long chord having a bearing of North 43 degrees 29 minutes 00 seconds East and a length of 1,076.51 feet.

In the State of Ohio, County of Clark, Township of GreeAll that part of Section 19, Township 6 North, Range 10 West, Kent County, Michigan, described as follows: Commencing at a point 812.50 feet east of the southwest corner of the southeast ¼ of said Section 19, thence north 183 feet, thence east 100 feet, thence south 183 feet, thence west 100 feet to the point of beginning.

Parcel 1-WDV-2 Description

Situated in the State of Ohio, County of Clark, Township of Green, being in the Northwest Quarter of Section 5 and in the Southwest Quarter of Section 6, Township 4, Range 8, Miami River Survey, and being a part of that 73.16 acre tract described in a deed to The City of Springfield, Ohio, of record in Deed Book 449, page 237, and that 1.35 acre tract described to The City of Springfield, Ohio, of record in Deed Book 452, page 221, all records referenced herein are on file at the Office of the Recorder for Clark County, Ohio, being a parcel of land located on the left and right sides of the proposed centerline of construction for State Route 794, as shown on the centerline plat for CLA-794-0.60, of record in Plat Book 18, page 286, and said parcel being further bounded and described as follows:

Commencing for reference at an iron pin found at the northwest corner of said Section 5, being the southwest corner of said Section 6, said iron pin being at an angle point in the existing centerline of survey for Peacock Road, and said iron pin found being 2.34 feet left of Peacock Road proposed centerline of construction Station 204+37.70;

Thence South 85 degrees 11 minutes 07 seconds East, along the north line of said Section 5, along the south line of said Section 6 (passing the northeast corner of said 73.16 acre tract at a distance of 3,589.25 feet) a total distance of 3,688.4.4 feet to a point on the existing northwest right-of-way line for said State Route 794, said point being the east corner of said 1.35 acre tract, said corner being a southerly corner of that 110.789 acre tract described in a deed to Ruth Y. Young, of record in Official Record 1416, page 1572, and described in a deed to Security National Bank of Springfield nka Security National Bank and Trust Company, ITE of the Herbert A. Young Trust u/d of February 5, 1991, as amended (½ interest), of record in Official Record Volume 1887, page 2365, (reference an iron pin found with a cap stamped “Sutton” North 85 degrees 11 minutes 07 seconds West at a distance of 3,686.86 feet), said point being 73.98 feet right of State Route 794 proposed centerline of construction Station 176+64.69;

Thence South 85 degrees 11 minutes 07 seconds East, continuing along the north line of said Section 5 and the south line of said Section 6, along the north line of said 73.16 acre tract, and along the south line of said 1.35 acre tract, a distance of 72.01 feet to an iron pin set on the proposed southwest right-of-way line for said State Route 794, said iron pin set being 60.00 feet right of State Route 794 proposed centerline of construction Station 177+35.34, and said iron pin set being the TRUE POINT OF BEGINNING for the herein described right-of-way parcel; Thence across said 1.35 acre tract along the following four (4) described courses:

1. North 73 degrees 59 minutes 44 seconds West, along a line parallel to and 60.00 feet southwesterly from the proposed centerline of construction for said State Route 794, a distance of 37.91 feet to an iron pin set on the existing northwest right-of-way line for said State Route 794, being the northwest line of said 1.35 acre tract, and being the southeast line of said 110.789 acre tract, said iron pin set being 60.00 feet right of State Route 794 proposed centerline of construction Station 176+97.43;

2. Northeasterly along the arc of a curve to the right, along the existing northwest right-of-way line for said State Route 794, along the northwest line of said 1.35 acre tract, and along the southeast line for said 110.789 acre tract, said curve having a radius of 1,677.20 feet, a central angle of 11 degrees 19 minutes 21 seconds (passing the proposed centerline of construction for said State Route 794 at an arc length of 180.45 feet), a total arc length of 331.44 feet to a point of tangency (reference a concrete monument found South 66 degrees 20 minutes 42 seconds West at a distance of 0.24 feet), said point being 30.17 feet left of State Route 794 proposed centerline of construction Station 180+16.84, said curve being subtended by a long chord having a bearing of North 89 degrees 09 minutes 12 seconds East and a length of 330.90 feet;

3. South 85 degrees 11 minutes 07 seconds East, along the existing north right-of-way line for said State Route 794, along the north line of said 1.35 acre tract, and along a south line of said 110.789 acre tract, a distance of 327.65 feet to an iron pin set at the intersection of the northeast line of said 73.16 acre tract projected north, said iron pin set being 40.00 feet left of State Route 794 proposed centerline of construction Station 183+48.19;

4. South 25 degrees 15 minutes 14 seconds East, along the northeast line of said 73.16 acre tract projected north, a distance of 46.22 feet to a point on the centerline of survey and construction for said State Route 794, being on the south line of said 1.35 acre tract, said point being the northeast corner of said 73.16 acre tract and the northwest corner of that 1.25 acre tract described in a deed to The City of Springfield, Ohio, of record in Deed Book 450, page 164, and said point being at State Route 794 proposed centerline of construction Station 183+71.34;

Thence South 25 degrees 15 minutes 14 seconds East, along the northeast line of said 73.16 acre tract, along the southwest line of said 1.25 acre tract (passing the existing south right-of-way line for said State Route 794, the southwest corner of said 1.25 acre tract, and the northwest corner of that 30.02 acre tract described in a deed to The City of Springfield, Ohio, of record in Deed Book 535, page 558 at a distance of 46.22 feet), along the southwest line of said 30.02 acre tract, a total distance of 69.33 feet to an iron pin set, said iron pin set being 60.00 feet right of State Route 794 proposed centerline of construction Station 184+06.08;

Thence across said 73.16 acre tract along the following three (3) described courses:

1. North 85 degrees 11 minutes 07 seconds West, along a line parallel to and 60.00 feet southerly from the centerline of survey and construction for said State Route 794, a distance of 208.09 feet to an iron pin set, said iron pin set being 60.00 feet right of State Route 794 proposed centerline of construction Station 181+97.99;

2. Northwesterly along the arc of a curve to the right, parallel to and 60.00 feet southwesterly from the proposed centerline of construction for said State route 794, said curve having a radius of 1,697.02 feet, a central angle of 11 degrees 11 minutes 23 seconds (passing the existing south right-of-way line at an arc length of 250.06 feet), a total arc length of 331.42 feet to an iron pin set at a point of tangency, said iron pin set being 60.00 feet right of State Route 794 proposed centerline of construction Station 178+78.29, said curve being subtended by a long chord having a bearing of North 79 degrees 35 minutes 25 seconds West and a length of 330.90 feet;

3. North 73 degrees 59 minutes 44 seconds West, along a line parallel to and 60.00 feet southwesterly from the proposed centerline of construction for said State Route 794 (passing the existing centerline of survey for said State Route 794 at a distance of 67.66 feet), a total distance of 142.94 feet to the TRUE POINT OF BEGINNING for the herein described right-of-way parcel.

The above described right-of-way parcel contains an area of 1.209 acres (including a total of 1.038 acres within the present road occupied), of which 0.680 acres lies within Clark County Auditor's tax parcel number 1001100005000013 (including 0.509 acres within the present road occupied), and 0.529 acres with no tax parcel number (all of which lies within present road occupied).

The bearings described herein are based on the bearing of South 85 degrees 11 minutes 07 seconds East for the north line of Section 5, Township 4, Range 8, Miami River Survey, which is referenced to the Ohio State Plane Coordinate System, South Zone, and the North American Datum of 1983 (CORS96 Adjustment), as established utilizing a GPS survey performed by American Structurepoint, Inc. in March 2009, and an NGS OPUS solution (file number 0911340480) that was based on CORS Stations “OHCL”, “OHMD” and “OH:FA”.

Iron pins referenced as set are ⅝ inch by 30 inch long rebar with yellow plastic caps stamped “ASI PS-8438” and are set after construction activities are completed.

The above description of a right-of-way parcel was prepared and reviewed on October 14, 2010 by Brian P. Bingham, Professional Surveyor Number 8438, is based on an actual field survey performed in March 2009 by American Structurepoint, Inc., meets the requirements of the “Minimum Standards for Boundary Surveys” described in Ohio Revised Code Chapter 4733-37, and is true and correct to the best of my knowledge.

Parcel 1-WDV-3 Description

Situated in the State of Ohio, County of Clark, Township of Green, being in the Northwest Quarter of Section 5, Township 4, Range 8, Miami River Survey, and being a part of that 37.15 acre tract described in a deed to The City of Springfield, Ohio, of record in Official Record Volume 1761, page 2573, being a parcel of land located on the left and right sides of the proposed centerline of construction for Peacock Road, being on the left side of the proposed centerline of construction for State Route 794, both as shown on the centerline plat for CLA-794-0.60, of record in Plat Book 18, page 286, said parcel being further bounded and described as follows:

Beginning at an iron pin found at the northwest corner of said Section 5, being the northeast corner of Section 11, Township 4, Range 8, being the southwest corner of Section 6, Township 4, Range 8, being the southeast corner of Section 12, Township 4, Range 8, said iron pin found being the northwest corner of said 37.15 acre tract, being the northeast corner of that 1.47 acre tract described in a deed to Larry E. Shaffer, of record in Official Record Volume 1778, page 73, being the southwest corner of that 18.79 acre tract described in two deeds to Nancy K. Saks & Daniel Saks (⅚ interest), of record in Official Record Volume 1862, page 116 and in Official Record Volume 1900, page 107, and described in a deed to Barbara Jean Meadows (⅙ interest), of record in Official Record Volume 998, page 40, said iron pin found being at an angle point in the existing centerline of survey for Peacock Road, and said iron pin found being 2.34 feet left of Peacock Road proposed centerline of construction Station 204+37.70;

Thence South 85 degrees 11 minutes 07 seconds East, along the north line of said Section 5 and said 37.15 acre tract, along the south line of said Section 6 and said 18.79 acre tract, a distance of 42.69 feet to an iron pin set at a point, said iron pin set being 40.00 feet right of Peacock Road proposed centerline of construction Station 204+31.85;

Thence across said 37.15 acre tract along the following seven (7) described courses:

1. Southeast parallel to and 40.00 feet northeasterly from the proposed centerline of construction for said Peacock Road, along the arc of a non-tangent curve to the left, said curve having a radius of 273.95 feet, a central angle of 40 degrees 31 minutes 19 seconds, and an arc length of 193.75 feet to an iron pin set at a point of tangency, said iron pin set being 40.00 feet right of Peacock Road proposed centerline of construction Station 202+09.82, said curve being subtended by a long chord having a bearing of South 23 degrees 22 minutes 30 second East and a length of 189.74 feet;

2. South 43 degrees 38 minutes 10 seconds East, along a line parallel to and 40.00 feet northeasterly from the proposed centerline for said Peacock Road, a distance of 121.71 feet to an iron pin set at a point of curvature, said iron pin set being 88.73 feet left of State Route 794 proposed centerline of construction Station 141+37.27;

3. East along the arc of a curve to the left, said curve having a radius of 30.00 feet, a central angle of 86 degrees 54 minutes 16 seconds, and an arc length of 45.50 feet to an iron pin set at a point of cusp on the proposed northwest right-of-way line for State Route 794, said iron pin set being 60.00 feet left of State Route 794 proposed centerline of construction Station 141+65.17, said curve being subtended by a long chord having a bearing of South 87 degrees 05 minutes 18 seconds East and a length of 41.26 feet;

4. Southwest along the proposed northwest right-of-way line for said State Route 794, parallel to and 60.00 feet northwest of the centerline of construction for said State Route 794, along the arc of a curve to the left, said curve having a radius of 1,266.23 feet, a central angle of 06 degrees 11 minutes 29 seconds, and an arc length of 136.83 feet to an iron pin set at a point of cusp, said iron pin set being 60.00 feet left of State Route 794 proposed centerline of construction Station 140+34.83, said curve being subtended by a long chord having a bearing of South 46 degrees 21 minutes 50 seconds West and a length of 136.76 feet;

5. North along the arc of a curve to the left, said curve having a radius of 30.00 feet, a central angle of 86 degrees 54 minutes 16 seconds, and an arc length of 4530 feet to an iron pin set at a point of tangency, said iron pin set being 88.73 feet left of State Route 794 proposed centerline of construction Station 140+62.73, said curve being subtended by a long chord having a bearing of North 00 degrees 11 minutes 02 seconds West and a length of 41.26 feet;

6. North 43 degrees 38 minutes 10 seconds West, (along a line parallel to and 40.00 feet southwesterly from the proposed centerline of construction for a distance of 121.71 feet), a total distance of 162.11 feet to an iron pin set, said iron pin set being 42.30 feet left of Peacock Road proposed centerline of construction Station 202+45.49;

7. North 84 degrees 49 minutes 54 seconds West, (passing the existing east right-of-way line for said Peacock Road at a distance of 30.26 feet), a total distance of 50.26 feet to a railroad spike found on the existing centerline of survey for said Peacock Road, being on the west line of said 37.15 acre tract and said Section 5, being on the east line of said Section 11, being the southeast corner of said 1.47 acre tract, and being a northeast corner for that 76.59 acre tract described in a deed to The City of Springfield, Ohio, of record in Official Record Volume 1761, page 2573, and said point being 80.93 feet left of Peacock Road proposed centerline of construction Station 202+72.42;

Thence North 05 degrees 10 minutes 06 seconds East, along the existing centerline of survey for said Peacock Road, along the west line of said 37.15 acre tract and said Section 5, along the east line of said 1.47 acre tract and said Section 11, a distance of 200.00 feet to the POINT OF BEGINNING for the herein described right-of-way parcel.

The above described right-of-way parcel contains 0.679 acres within Clark County Auditor's tax parcel number 1001100005000001 (including 0.092 acres within the present road occupied).

The bearings described herein are based on the bearing of South 85 degrees 11 minutes 07 seconds East for the north line of Section 5, Township 4, Range 8, Miami River Survey, which is referenced to the Ohio State Plane Coordinate System, South Zone, and the North American Datum of 1983 (CORS96 Adjustment), as established utilizing a GPS survey performed by American Structurepoint, Inc. in March 2009, and an NGS OPUS solution (file number 09-11340480) that was based on CORS Stations “OHCL”, “OHMD” and “OHFA”.

Iron pins referenced as set are ⅝ inch by 30 inch long rebar with yellow plastic caps stamped “ASI PS-8438” and are set after construction activities are completed.

The above description of a right-of-way parcel was prepared and reviewed on January 19, 2011 by Brian P. Bingham, Professional Surveyor Number 8438, is based on an actual field survey performed in March 2009 by American Structurepoint, Inc., meets the requirements of the “Minimum Standards for Boundary Surveys” described in Ohio Revised Code Chapter 4733-37, and is true and correct to the best of my knowledge.

Issued in Romulus, Michigan, on August 2, 2012.
John L. Mayfield, Jr.,
Manager, Detroit Airports District Office, FAA, Great Lakes Region.

[FR Doc. 2012-20141 Filed 8-15-12; 8:45 am]

BILLING CODE 4910-13-P